DEPARTMENT OF JUSTICE

Notice of Lodging of Proposed Consent Decree Under the Solid Waste Disposal Act

On April 12, 2017, the Department of Justice lodged a proposed Consent Decree with the United States District Court for the District of Puerto Rico in the lawsuit entitled United States v. Municipality of Santa Isabel, Civil Action No. 3:17-CV-01494.

The United States filed this action under the Solid Waste Disposal Act (SWDA). The United States' complaint seeks injunctive relief and civil penalties for the failure by the Municipality of Santa Isabel to comply with a U.S. Environmental Protection Agency administrative order on consent issued under the SWDA which addresses the closure of the Municipality's landfill. The consent decree requires the Municipality to, among other things, close its landfill, implement a recycling program, and pay a $20,000 civil penalty.

The publication of this notice opens a period for public comment on the Consent Decree. Comments should be addressed to the Assistant Attorney General, Environment and Natural Resources Division, and should refer to United States v. Municipality of Santa Isabel, D.J. Ref. No. 90-7-1-10627. All comments must be submitted no later than 30 days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $19.25 (25 cents per page reproduction cost) payable to the United States Treasury. For a paper copy without the exhibits and signature pages, the cost is $5.25.

Robert E. Maher, Jr.,
Assistant Section Chief, Environmental Enforcement Section, Environment and Natural Resources Division.

[FR Doc. 2017-08029 Filed 4-20-17; 8:45 am]

BILLING CODE 4410-15-P